DEPARTMENT OF HOUSING AND URBAN DEVELOPMENT

[Docket No. FR-4817-N-17]

Notice of Proposed Information Collection for Public Comment—HOPE VI Grant Program

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: December 15, 2003.

ADDRESSES: Interested persons are invited to submit comments regarding this proposal. Comments should refer to the proposal by name and/or OMB Control number and should be sent to: Mildred M. Hamman, Reports Liaison Officer, Public and Indian Housing, Department of Housing and Urban Development, 451 7th Street, SW, Room 4249, Washington, DC 20410-5000.

FOR FURTHER INFORMATION CONTACT: Mildred M. Hamman, (202) 708-0614, extension 4128. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

The HOPE VI forms are used by the Department to collect information from Public Housing Agencies (PHAs) as part of the HOPE VI grant the application process.

There are several forms used by the Department, each of which serve a different information collection purpose. The title, purpose, and estimated time it will take applicants to complete each form is described in the section below.

This Notice also lists the following information:

Title of Proposal: Information Collection for the HOPE VI Grant Program .

OMB Control Number: 2577-0208.

Description of the need for the information and proposed use: In order for the Department to ensure that applicants meet particular eligibility criteria and possess the capacity to operate federally-funded activities, the Department relies on information provided by applicants through forms. The Department also tracks grant progress and reviews financial characteristics of planned grant expenditures. It relies on information provided by grantees through forms.

Some of the below listed forms are used by the Department in the rating and ranking process. This process is conducted to evaluate applications from PHAs. The forms capture additional information from applicants that cannot be easily conveyed by other segments of the HOPE VI application. For example, questions that require narrative responses would not easily convey budget information.

Budget and financial forms and an interest-based reporting system are used by the Department in administering the grants.

Agency form numbers, if applicable:

• Form HUD-52860-A, “HOPE VI Application Data Form” is part of the HOPE VI Revitalization NOFA and collects numerical information about the applicant's proposed HOPE VI Revitalization Plan. Estimated reporting time: 80 hours.

• Form HUD 52825-A, “HOPE VI Budget” collects information concerning a HOPE VI Revitalization grantee's request for HUD approval of the grant budget and spending authorization. Estimated reporting time: 3 hours.

• Form HUD-53001-A, “Actual HOPE VI Cost Certificate” collects information at closeout about the propriety of expenditures throughout the HOPE VI grant period. Estimated reporting time: 2 hours.

• Form HUD-NEW NUMBER, “Revitalization Application Checklist/Table of Contents” provides a checklist to assist applicants ensure that they have submitted all required forms and documentation. Estimated reporting time: Fifteen minutes.

• Form HUD-NEW NUMBER, “TDC/Grant Limitations Worksheet” collects information on whether the amount of requested public housing funds is within HUD allowances.

• Form HUD-NEW NUMBER, “Physical Development Resources” collects information about the amount of leverage development funds in a HOPE VI Revitalization Plan. Estimated reporting time: 4 hours.

• Form HUD-NEW NUMBER, “Community and Supportive Services Resources” collects information about the amount of leverage Community and Supportive Services funds in a HOPE VI Revitalization Plan. Estimated reporting time: 4 hours.

• Form HUD-NEW NUMBER, “Anticipatory Resources” collects information about the amount of expenditures made in anticipation of the applicant receiving a HOPE VI Revitalization grant. Estimated reporting time: 2 hours.

• Form HUD-NEW NUMBER, “Collateral Investment Resources” collects information about the amount of planned expenditures by other entities that will have an impact on the HOPE VI Revitalization Plan area. Estimated reporting time: 2 hours.

• Form HUD-NEW NUMBER, “Resident Training and Public Meeting Certification” collects information about resident meeting pertaining to the HOPE VI Revitalization Plan. Estimated reporting time: 30 minutes.

• Form HUD-NEW NUMBER, “Project Readiness” collects information about activities necessary before HOPE VI development begins. Estimated reporting time: 30 minutes.

• Form HUD-52774, “HOPE VI Relocation Plan Guide” is a format to assist PHAs in reporting information to HUD concerning HOPE VI related relocation. Estimated reporting time: 20 hours.

• Form HUD-NEW NUMBER, “HOPE VI Community and Supportive Services Workplan” is a format to assist PHAs in reporting information to HUD concerning their HOPE VI Community and Supportive Services program. Estimated reporting time: 20 hours.

• Form HUD-NEW NUMBER, “HOPE VI Neighborhood Networks Fact Sheet” asks PHA applicants to specify organization type, total number of public and assisted housing residents they will be serving and the types of services they will be providing. Estimated reporting time: 5 hours.

• Form HUD-NEW NUMBER, “HOPE VI Demolition Application Checklist” provides a checklist to assist applicants ensure that they have submitted all required forms and documentation. Estimated reporting time: Fifteen minutes.

• Form HUD-NEW NUMBER, “HOPE VI Neighborhood Networks Application Checklist” provides a checklist to assist applicants ensure that they have submitted all required forms and documentation. Estimated reporting time; Fifteen minutes.

Members of affected public: Public Housing Authorities.

Estimation of the total number of hours needed to prepare the information collection including number of respondents, frequency of response, and hours of response: For HOPE VI Revitalization NOFA, 80 respondents, annually, 180 hours; 14,400 annual burden hours.

The HOPE VI Revitalization NOFA includes the following forms:

• Form HUD-52860-A, “HOPE VI Application Data Form” 80 respondents, annually, 80 hours; 1,600 annual burden hours.

• Form HUD-52825-A, “HOPE VI Budget” 80 respondents, annually, 3 hours; 240 annual burden hours.

• Form HUD-53001-A, “Actual HOPE VI Cost Certificate” respondents, annually, 2 hours; 160 annual burden hours.

• Form HUD-NEW NUMBER, “Revitalization Application Checklist/Table of Contents” 80 respondents, annually, fifteen minutes, 20 annual burden hours.

• Form HUD-NEW NUMBER, “TDC/Grant Limitations Worksheet” 80 respondents, annually, 1 hour; 80 annual burden hours.

• Form HUD-NEW NUMBER, “Physical Development Resources” 80 respondents, annually, 4 hours; 360 annual burden hours.

• Form HUD-NEW NUMBER, “Community and Supportive Services Resources” 80 respondents, annually, 4 hours; 360 annual burden hours.

• Form HUD-NEW NUMBER, “Anticipatory Resources” 80 respondents, annually, 2 hours; 160 annual burden hours.

• Form HUD-NEW NUMBER, “Collateral Investment Resources” 80 respondents, annually, 2 hours; 160 annual burden hours.

• Form HUD-NEW NUMBER, “Resident Training and Public Meeting Certification” 80 respondents, annually, thirty minutes; 40 annual burden hours.

• Form HUD-NEW NUMBER, “Project Readiness” 80 respondents, annually, thirty minutes; 40 annual burden hours.

For HOPE VI Demolition NOFA, 140 respondents, annually, 10 hours; 1,400 annual burden hours.

The HOPE VI Demolition NOFA includes the following form:

• Form HUD-NEW NUMBER, “HOPE VI Demolition Application Checklist” 140 respondents, annually, fifteen minutes; 35 annual burden hours.

For HOPE VI Neighborhood Networks NOFA, 30 respondents, annually, 20 hours; 600 annual burden hours.

The HOPE VI Neighborhood Networks NOFA NOFA includes the following forms:

• Form HUD-NEW NUMBER, “HOPE VI Neighborhood Networks Fact Sheet” 30 respondents, annually, 5 hours; 150 annual burden hours.

• Form HUD-NEW NUMBER, “HOPE VI Neighborhood Networks Application Checklist” 30 respondents, annually, fifteen minutes; 7.5 annual burden hours.

For form HUD-52774, “HOPE VI Relocation Plan Guide” 200 respondents, once per five year grant, 1,000 annual burden hours.

For form HUD-NEW NUMBER, “Hope VI Community and Supportive Services Workplan” 200 respondents, once per five year grant, 1,000 annual burden hours.

For form HUD 52825-A, “HOPE VI Budget” as used for grant administration, 200 respondents, semi-annually, 3 hours; 1,200 annual burden hours.

For HOPE VI Quarterly Progress Report, a non-form, internet-based information collection system, 200 respondents, four times a year, 4,000 annual burden hours.

Status of the proposed information collection: Revision of a currently approved collection.

Authority: Section 3506 of the Paperwork Reduction Act of 1995, 44 U.S.C. Chapter 35, as amended.

Michael Liu,
Assistant Secretary for Public and Indian Housing.

[FR Doc. 03-25855 Filed 10-10-03; 8:45 am]

BILLING CODE 4210-33-M